DEPARTMENT OF TRANSPORTATION

Federal Aviation Administration

Notice of Intent To Rule on Application (00-02-C-00-SWF) To Impose and Use a Passenger Facility Charge (PFC) at Stewart International Airport, Newburgh, NJ

AGENCY: Federal Aviation Administration (FAA), DOT.

ACTION: Notice of intent to rule on application.

SUMMARY: This correction revises information from the previously published notice.

In notice document 99-29903 beginning on page 62243 in the issue of Tuesday, November 16, 1999, under the header section, first paragraph, the notice of intent to rule on application number should be, “(00-02-C-00-SWF)”. Also under Supplementary Information section, third paragraph, application number should be, “00-02-C-00-SWF”.

DATES: Comments must be received on or before February 22, 2000.

FOR FURTHER INFORMATION CONTACT: Dan Vornea, Project Manager, New York Airports District Office, 600 Old Country Road, Suite 446, Garden City, N.Y. 11530.

Issued in Garden City, New York on November 24, 1999.
Thomas Felix,
Manager, Planning & Programming Branch, Eastern Region.

[FR Doc. 00-868 Filed 1-19-00; 8:45 am]

BILLING CODE 4910-13-M